LEGAL SERVICES CORPORATION

Sunshine Act Meetings

TIME AND DATE: The Legal Services Corporation Board of Directors will meet virtually on May 19, 2023. The meeting will commence at 11:30 a.m. EDT, and will continue until the conclusion of the Committee's agenda.

PLACE:

Public Notice of Virtual Meetings: LSC will conduct the May 19, 2023 meeting via Zoom.

Public Observation: Unless otherwise noted herein, the Board of Directors meeting will be open to public observation via Zoom. Members of the public who wish to participate remotely in the public proceedings may do so by following the directions provided below.

Directions for Open Session:

May 19, 2023

To join the Zoom meeting by computer, please use this link.

○ https://lsc-gov.zoom.us/j/83031504371?pwd=RnVsTUtTdkRCU2xYZkV6a1ZNcENoQT09

○ Meeting ID: 830 3150 4371

○ Passcode: 236721

○ To join the Zoom meeting with one tap from your mobile phone, please click dial:

○ +13052241968,,83031504371# US

○ +13092053325,,83031504371# US

○ To join the Zoom meeting by telephone, please dial one of the following numbers:

○ +1 312 626 6799 (Chicago)

○ +1 646 876 9923 (New York)

○ +1 301 715 8592 (Washington DC)

○ +1 408 638 0968 (San Jose)

○ +1 669 900 6833 (San Jose)

○ +1 253 215 8782 (Tacoma)

○ +1 346 248 7799 (Houston)

○ Meeting ID: 830 3150 4371

○ Passcode: 236721

Once connected to Zoom, please immediately mute your computer or telephone. Members of the public are asked to keep their computers or telephones muted to eliminate background noise. To avoid disrupting the meetings, please refrain from placing the call on hold if doing so will trigger recorded music or other sound.

From time to time, the Board Chair may solicit comments from the public. To participate in the meeting during public comment, use the `raise your hand' or `chat' functions in Zoom and wait to be recognized by the Chair before stating your questions and/or comments.

STATUS: Open.

MATTERS TO BE CONSIDERED:

1. Approval of Agenda

2. Announcement of Results of Recent Notational Votes

3. Consider and Act on the Board of Directors' Transmittal Letter to Accompany the Inspector General's Semiannual Report to Congress for the Period of October 1, 2022 through March 31, 2023

4. Consider and Act on Resolution #2023-XXX, Acceptance of the Draft Audited Financial Statements for Fiscal Years 2022 and 2021

5. Presentation of the Fiscal Year 2022 IRS Form 990

6. Briefing by New Inspector General

7. Public Comment

8. Consider and Act on Other Business

9. Consider and Act on Adjournment of Meeting

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b).

Dated: May 10, 2023.
Stefanie Davis,
Senior Associate General Counsel for Regulations, Legal Services Corporation.

[FR Doc. 2023-10365 Filed 5-11-23; 11:15 am]

BILLING CODE 7050-01-P